FEDERAL RETIREMENT THRIFT INVESTMENT BOARD

Sunshine Act; Meetings

Time and Date: 9 a.m. (E.S.T.), February 20, 2003.

Place: 4th Floor, Conference Room, 1250 H Street, NW., Washington, DC.

Status: Parts will be open to the public and parts closed to the public.

Matters to be Considered:

Parts Open to the Public

1. Approval of the minutes of the January 21, 2003, Board member meeting.

2. Executive Director's report, including the following items:

(a) Legislative report,

(b) Investment report,

(c) Participation information; and

(d) Future meeting topics.

3. Status of new record keeping system.

4. Participant service presentation.

Parts Closed to the Public

5. Discussion of litigation matters.

6. Discussion of personnel matters.

Contact Person for More Information: Thomas J. Trabucco, Director, Office of External Affairs, (202) 942-1640.

Dated: February 10, 2003.
Elizabeth S. Woodruff,
Secretary to the Board, Federal Retirement Thrift Investment Board.

[FR Doc. 03-3586 Filed 2-10-03; 12:54 pm]

BILLING CODE 6760-01-M